DEPARTMENT OF COMMERCE

National Institute of Standards and Technology

[Docket Number: 150302201-6024-02]

Award Competitions for Hollings Manufacturing Extension Partnership (MEP) Centers in the States of Alabama, Arkansas, California, Georgia, Louisiana, Massachusetts, Missouri, Montana, Ohio, Pennsylvania, Puerto Rico, Utah and Vermont

AGENCY: National Institute of Standards and Technology (NIST), United States Department of Commerce (DoC).

ACTION: Notice of funding availability.

SUMMARY: NIST invites applications from eligible organizations in connection with NIST's funding up to thirteen (13) separate MEP cooperative agreements for the operation of an MEP Center in the designated States' service areas and in the funding amounts identified in the corresponding Federal Funding Opportunity (FFO). NIST anticipates awarding one (1) cooperative agreement for each of the identified States. The objective of the MEP Center Program is to provide manufacturing extension services to primarily small and medium-sized manufacturers within the States designated in the corresponding FFO. The selected organization will become part of the MEP national system of extension service providers, currently located throughout the United States and Puerto Rico.

DATES: Electronic applications must be received no later than 11:59 p.m. Eastern Time on April 25, 2016. Paper applications will not be accepted. Applications received after the deadline will not be reviewed or considered. The approximate start date for awards under this notice and the corresponding FFO is expected to be October 1, 2016.

When developing your submission timeline, please keep in mind that (1) all applicants are required to have a current registration in the System for Award Management (SAM.gov); (2) the free annual registration process in the electronic System for Award Management (SAM.gov) may take between three and five business days, or as long as more than two weeks; and (3) electronic applicants are required to have a current registration in Grants.gov; and (4) applicants will receive a series of email messages from Grants.gov over a period of up to two business days before learning whether a Federal agency's electronic system has received its application. Please note that a federal assistance award cannot be issued if the designated recipient's registration in the System for Award Management (SAM.gov) is not current at the time of the award.

ADDRESSES: Applications must be submitted electronically through www.grants.gov. NIST will not accept applications submitted by mail, facsimile, or by email.

FOR FURTHER INFORMATION CONTACT: Administrative, budget, cost-sharing, and eligibility questions and other programmatic questions should be directed to Diane Henderson at Tel: (301) 975-5105; Email: mepffo@nist.gov; Fax: (301) 963-6556. Grants Rules and Regulation questions should be addressed to: Michael Teske, Grants Management Division, National Institute of Standards and Technology, 100 Bureau Drive, Stop 1650, Gaithersburg, MD 20899-1650; Tel: (301) 975-6358; Email: michael.teske@nist.gov; Fax: (301) 975-6368. For technical assistance with Grants.gov submissions contact Christopher Hunton at Tel: (301) 975-5718; Email: grants.gov@nist.gov; Fax: (301) 975-8884. Questions submitted to NIST/MEP may be posted as part of an FAQ document, which will be periodically updated on the MEP Web site at http://nist.gov/mep/ffo-state-competitions-03.cfm.

SUPPLEMENTARY INFORMATION: Electronic access: Applicants are strongly encouraged to read the corresponding FFO announcement available at www.grants.gov for complete information about this program, including all program requirements and instructions for applying electronically. Paper applications or electronic applications submitted other than through www.grants.gov will not be accepted. The FFO may be found by searching under the Catalog of Federal Domestic Assistance Name and Number provided below.

Authority: 15 U.S.C. 278k, as implemented in 15 CFR part 290.

Catalog of Federal Domestic Assistance Name and Number: Manufacturing Extension Partnership—11.611.

Webinar Information Session: NIST/MEP will hold one or more webinar information sessions for organizations that are considering applying for this funding opportunity. These webinars will provide general information regarding MEP and offer general guidance on preparing proposals. NIST/MEP staff will be available at the webinars to answer general questions. During the webinars, proprietary technical discussions about specific project ideas will not be permitted. Also, NIST/MEP staff will not critique or provide feedback on any specific project ideas during the webinars or at any time before submission of a proposal to MEP. However, NIST/MEP staff will provide information about the MEP eligibility and cost-sharing requirements, evaluation criteria and selection factors, selection process, and the general characteristics of a competitive MEP proposal during this webinar. The webinars will be held approximately fifteen (15) to thirty (30) business days after posting of this notice and the corresponding FFO. The exact dates and times of the webinars will be posted on the MEP Web site at http://nist.gov/mep/ffo-state-competitions-03.cfm. The webinars will be recorded, and a link to the recordings will be posted on the MEP Web site. In addition, the webinar presentations will be available on the MEP Web site. Organizations wishing to participate in one or more of the webinars must register in advance by contacting MEP by email at mepffo@nist.gov. Participation in the webinars is not required in order for an organization to submit an application pursuant to this notice and the corresponding FFO.

Program Description: NIST invites applications from eligible organizations in connection with NIST's funding up to thirteen (13) separate MEP cooperative agreements for the operation of an MEP Center in the designated States' service areas and in the funding amounts identified in section II.2 of the corresponding FFO. NIST anticipates awarding one (1) cooperative agreement for each of the identified States. The objective of the MEP Center Program is to provide manufacturing extension services to primarily small and medium-sized manufacturers within the States designated in the applications. The selected organization will become part of the MEP national system of extension service providers, located throughout the United States and Puerto Rico.

See the corresponding FFO for further information about the Manufacturing Extension Partnership and the MEP National Network.

The MEP Program is not a Federal research and development program. It is not the intent of the program that awardees will perform systematic research.

To learn more about the MEP Program, please go to http://www.nist.gov/mep/.

Funding Availability: NIST anticipates funding up to thirteen (13) MEP Center awards with an initial five-year period of performance in accordance with the multi-year funding policy described in section II.3 of the corresponding FFO. Initial funding for the awards listed below and in the corresponding FFO is contingent upon the availability of appropriated funds.

The table below lists the thirteen (13) States identified for funding as part of this notice and the corresponding FFO and the estimated amount of funding available for each:

¹ The States of Ohio and Utah were included in a prior round of MEP Center award competitions (see 80 FR 12451 (March 9, 2015) and NIST Funding Opportunity Number 2015-NIST-MEP-01), which did not result in an application being selected for funding. As a result, NIST is announcing competition for these two States as part of this round of MEP Center award competitions.

MEP Center location and assigned geographical service area (by state) ¹ | Anticipated annual Federal funding for each year of the award | Total Federal funding for 5 year award period
Alabama | $1,780,800 | $8,904,000
Arkansas | 971,218 | 4,856,065
California | 14,046,449 | 70,232,245
Georgia | 2,693,482 | 13,467,410
Louisiana | 1,197,546 | 5,987,730
Massachusetts | 2,467,879 | 12,339,395
Missouri | 2,207,873 | 11,039,365
Montana | 512,000 | 2,560,000
Ohio | 5,246,822 | 26,234,110
Pennsylvania | 5,280,586 | 26,402,930
Puerto Rico | 643,133 | 3,215,665
Utah | 1,147,573 | 5,737,865
Vermont | 500,000 | 2,500,000

Applicants may propose annual Federal funding amounts that are different from the anticipated annual Federal funding amounts set forth in the above table, provided that the total amount of Federal funding being requested by an Applicant does not exceed the total amount of federal funding for the five-year award period as set forth in the above table. For example, if the anticipated annual Federal funding amount for an MEP Center is $500,000 and the total Federal funding amount for the five-year award period is $2,500,000, an Applicant may propose Federal funding amounts greater, less than, or equal to $500,000 for any year or years of the award, so long as the total amount of Federal funding being requested by the Applicant for the entire five-year award period does not exceed $2,500,000.

Multi-Year Funding Policy. When an application for a multi-year award is approved, funding will usually be provided for only the first year of the project. Recipients will be required to submit detailed budgets and budget narratives prior to the award of any continued funding. Continued funding for the remaining years of the project will be awarded by NIST on a non-competitive basis, and may be adjusted higher or lower from year-to-year of the award, contingent upon satisfactory performance, continued relevance to the mission and priorities of the program, and the availability of funds. Continuation of an award to extend the period of performance and/or to increase or decrease funding is at the sole discretion of NIST.

Potential for Additional 5 Years. Initial awards issued pursuant to this notice and the corresponding FFO are expected to be for up to five (5) years with the possibility for NIST to renew the award, on a non-competitive basis, for an additional 5 years at the end of the initial award period. The review processes in 15 CFR 290.8 will be used as part of the overall assessment of the recipient, consistent with the potential long-term nature and purpose of the program. In considering renewal for a second five-year, multi-year award term, NIST will evaluate the results of the annual reviews and the results of the 3rd Year peer-based Panel Review findings and recommendations as set forth in 15 CFR 290.8, as well as the Center's progress in addressing findings and recommendations made during the various reviews. The full process is expected to include programmatic, policy, financial, administrative, and responsibility assessments, and the availability of funds, consistent with Department of Commerce and NIST policies and procedures in effect at that time.

Kick-Off Conferences

Each recipient will be required to attend a kick-off conference, which will be held within 30 days post start date of award, to help ensure that the MEP Center operator has a clear understanding of the program and its components. The kick-off conference will take place at NIST/MEP headquarters in Gaithersburg, MD, during which time NIST will: (1) Orient MEP Center key personnel to the MEP program; (2) explain program and financial reporting requirements and procedures; (3) identify available resources that can enhance the capabilities of the MEP Center; and (4) negotiate and develop a detailed three-year operating plan with the recipient. NIST/MEP anticipates an additional set of site visits at the MEP Center and/or telephonic meetings with the recipient to finalize the three-year operating plan.

The kick-off conference will take up to approximately 3 days and must be attended by the MEP Center Director, along with up to two additional MEP Center employees. Applicants must include travel and related costs for the kick-off conference as part of the budget for year one (1), and these costs should be reflected in the SF-424A form. (See section IV.2.a(2) of the corresponding FFO). These costs must also be reflected in the budget table and budget narrative for year 1, which is submitted as part of the budget tables and budget narratives section of the Technical Proposal. (See section IV.2.a(6)(e) of the corresponding FFO.) Representatives from key subrecipients and other key strategic partners may attend the kick-off conference with the prior written approval of the Grants Officer. Applicants proposing to have key subrecipients and/or other key strategic partners attend the kick-off conference should clearly indicate so as part of the budget narrative for year one of the project.

MEP System-Wide Meetings

NIST/MEP typically organizes system-wide meetings approximately four times a year in an effort to share best practices, new and emerging trends, and additional topics of interest. These meetings are rotated throughout the United States and typically involve 3-4 days of resource time and associated travel costs for each meeting. The MEP Center Director must attend these meetings, along with up to two additional MEP Center employees.

Applicants must include travel and related costs for four quarterly MEP system-wide meetings in each of the five (5) project years (4 meetings per year; 20 total meetings over five-year award period). These costs must be reflected in the SF-424A form (see section IV.2.a(2).of the corresponding FFO). These costs must also be reflected in the budget tables and budget narratives for each of the project's five (5) years, which are submitted in the budget tables and budget narratives section of the Technical Proposal. (See section IV.2.a(6)(e) of the corresponding FFO).

Cost Share or Matching Requirement: Non-Federal cost sharing of at least 50 percent of the total project costs is required for each of the first through the third year of the award, with an increasing minimum non-federal cost share contribution beginning in year 4 of the award as follows:

Award year | Maximum NIST share | Minimum non-Federal share
1-3 | ½ | ½
4 | ⅖ | ⅗
5 and beyond | ⅓ | ⅔

Non-Federal cost sharing is that portion of the project costs not borne by the Federal Government. The applicant's share of the MEP Center expenses may include cash, services, and third party in-kind contributions, as described at 2 CFR 200.306, as applicable, and in the MEP program regulations at 15 CFR 290.4(c). No more than 50% of the applicant's total non-Federal cost share for any year of the award may be from third party in-kind contributions of part-time personnel, equipment, software, rental value of centrally located space, and related contributions, per 15 CFR 290.4(c)(5). The source and detailed rationale of the cost share, including cash, full- and part-time personnel, and in-kind donations, must be documented in the budget tables and budget narratives submitted with the application and will be considered as part of the review under the evaluation criterion found in section V.1.c.ii of the corresponding FFO.

Recipients must meet the minimum non-federal cost share requirements for each year of the award as identified in the chart above. For purposes of the MEP Program, “program income” (as defined in 2 CFR 200.80, as applicable) generated by an MEP Center may be used by a recipient towards the required non-federal cost share under an MEP award.

As with the Federal share, any proposed costs included as non-Federal cost sharing must be an allowable/eligible cost under this program and under the Federal cost principles set forth in 2 CFR part 200, subpart E. Non-Federal cost sharing incorporated into the budget of an approved MEP cooperative agreement is subject to audit in the same general manner as Federal award funds. See 2 CFR part 200, subpart F.

As set forth in section IV.2.a(7) of the corresponding FFO, a letter of commitment is required from an authorized representative of the applicant, stating the total amount of cost share to be contributed by the applicant towards the proposed MEP Center. Letters of commitment for all other third-party sources of non-Federal cost sharing identified in a proposal are not required, but are strongly encouraged.

Eligibility: The eligibility requirements set forth here and in section III.1 of the corresponding FFO will be used in lieu of and to the extent they are inconsistent with will supersede those given in the MEP regulations found at 15 CFR part 290, specifically 15 CFR 290.5(a)(1). Each applicant for and recipient of an MEP award must be a U.S.-based nonprofit institution or organization. For the purpose of this notice and the corresponding FFO, nonprofit institutions include public and private nonprofit organizations, nonprofit or State colleges and universities, public or nonprofit community and technical colleges, and State, local or Tribal governments. Existing MEP awardees and new applicants that meet the eligibility criteria set forth here and in section III.1 of the corresponding FFO may apply. An eligible organization may work individually or may include proposed subawards to eligible organizations or proposed contracts with any other organization as part of the applicant's proposal, effectively forming a team. However, as discussed in section I.4 of the corresponding FFO, NIST generally will not fund applications that propose an organizational or operational structure that, in whole or in part, delegates or transfers to another person, institution, or organization the applicant's responsibility for MEP Core Management and Oversight functions. In addition, the applicant must have or propose an Oversight Board or Advisory Committee and Governance structure or plan for establishing a board structure within 90 days from the award start date (Refer to section I.3 of the corresponding FFO).

Application Requirements: Applications must be submitted in accordance with the requirements set forth in section IV of the corresponding FFO announcement, which are in lieu of and to the extent they are inconsistent with will supersede any application requirements set forth in 15 CFR 290.5. See specifically sections IV.2.b(1), IV.2.b(2), and IV.2.b(7) in the Full Announcement Text of the corresponding FFO.

Application/Review Information: The evaluation criteria, selection factors, and review and selection process provided in this section and in section V of the corresponding FFO will be used for this competition in lieu of and to the extent they are inconsistent with will supersede those provided in the MEP regulations found at 15 CFR part 290, specifically 15 CFR 290.6 and 290.7.

Evaluation Criteria: The evaluation criteria that will be used in evaluating applications and assigned weights, with a maximum score of 100, are listed below.

a. Executive Summary and Project Narrative. (40 points; Sub-criteria i through iv will be weighted equally) NIST/MEP will evaluate the extent to which the applicant's Executive Summary and Project Narrative demonstrates how the applicant's methodology will efficiently and effectively establish an MEP Center and provide manufacturing extension services to primarily small and medium-sized manufacturers in the applicable State-wide geographical service area identified in section II.2 of the corresponding FFO. Applicants should name the state to be covered in the first sentence of the Executive Summary and Project Narrative. Reviewers will consider the following topics when evaluating the Executive Summary and Project Narrative:

i. Center Strategy. Reviewers will assess the applicant's strategy proposed for the Center to deliver services that meet manufacturers' needs, generate client impacts (e.g., cost savings, increased sales, etc.), and support a strong manufacturing ecosystem. Reviewers will assess the quality with which the applicant:

• Incorporates the market analysis described in the criterion set forth in subsection ii, below and in section V.1.a.ii(1) of the corresponding FFO to inform strategies, products and services;

• defines a strategy for delivering services that balances market penetration with impact and revenue generation, addressing the needs of manufacturers, with an emphasis on the small and medium-sized manufacturers;

• defines the Center's existing and/or proposed roles and relationships with other entities in the State's manufacturing ecosystem, including State, regional, and local agencies, economic development organizations and educational institutions such as universities and community or technical colleges, industry associations, and other appropriate entities;

• plans to engage with other entities in Statewide and/or regional advanced manufacturing initiatives; and

• supports achievements of the MEP mission and objectives while also satisfying the interests of other stakeholders, investors, and partners.

ii. Market Understanding. Reviewers will assess the strategy proposed for the Center to define the target market, understand the needs of manufacturers (especially Small and Medium Enterprises (SMEs)), and to define appropriate services to meet identified needs. Reviewers will evaluate the proposed approach for regularly updating this understanding through the five years. The following sub-topics will be evaluated and given equal weight:

(1) Market Segmentation. Reviewers will assess the quality and extent of the applicant's market segmentation strategy including:

• Segmentation of company size, geography, and industry priorities including some consideration of rural, start-up (a manufacturing establishment that has been in operation for five years or less) and/or very small manufacturers as appropriate to the state;

• alignment with state and/or regional initiatives; and

• other important factors identified by the applicant.

(2) Needs Identification and Product/Service Offerings. Reviewers will assess the quality and extent of the applicant's proposed needs identification and proposed products and services for both sales growth and operational improvement in response to the applicant's market segmentation and understanding assessed by reviewers under the preceding subsection ii(1) and in section V.1.a.ii.1 of the corresponding FFO. Of particular interest is how the applicant would leverage new manufacturing technologies, techniques and processes usable by small and medium-sized manufacturers. Reviewers will also consider how an applicant's proposed approach will support a job-driven training agenda with manufacturing clients. (To learn more about the White House job-driven training agenda, please go to: https://www.whitehouse.gov/sites/default/files/docs/ready_to_work_factsheet.pdf).

iii. Business Model. Reviewers will assess the applicant's proposed business model for the Center as the applicant provides in its Project Narrative, Qualifications of the Applicant; Key Personnel, Organizational Structure and Budget Tables and Budget Narratives sections of its Technical Proposal, submitted under section IV.2.a(6) of the corresponding FFO, and the proposed business model's ability to execute the strategy evaluated under criterion set forth in subsection ii(1), above, and in section V.1.a.i of the corresponding FFO, based on the market understanding evaluated under criterion set forth in subsection ii(2), above, and in section V.1.a.ii of the corresponding FFO. The following sub-topics will be evaluated and given equal weight:

(1) Outreach and Service Delivery to the Market. Reviewers will assess the extent to which the proposed Center is organized to:

• Identify, reach and provide proposed services to key market segments and individual manufacturers described above;

• work with a manufacturer's leadership in strategic discussions related to new technologies, new products and new markets; and

• leverage the applicant's past experience in working with small and medium-sized manufacturers as a basis for future programmatic success.

(2) Partnership Leverage and Linkages. Reviewers will assess the extent to which the proposed Center will make effective use of resources or partnerships with third parties such as industry, universities, community/technical colleges, nonprofit economic development organizations, and Federal, State and Local Government Agencies in the Center's business model.

iv. Performance Measurement and Management. Reviewers will assess the extent to which the applicant will use a systematic approach to measuring and managing performance including the:

• Quality and extent of the applicant's stated goals, milestones and outcomes described by operating year (year 1, year 2, etc.);

• applicant's utilization of client-based business results important to stakeholders in understanding program impact; and

• depth of the proposed methodology for program management and internal evaluation likely to ensure effective operations and oversight for meeting program and service delivery objectives.

b. Qualifications of the Applicant; Key Personnel, Organizational Structure and Management; and Oversight Board or Advisory Committee and Governance (30 points; Sub-criteria i and ii will be weighted equally). Reviewers will assess the ability of the key personnel, the applicant's organizational structure and management and Oversight Board or Advisory Committee and Governance to deliver the program and services envisioned for the Center. Reviewers will consider the following topics when evaluating the qualifications of the applicant and of program management:

i. Key Personnel, Organizational Structure and Management. Reviewers will assess the extent to which the:

• Proposed key personnel have the appropriate experience and education in manufacturing, outreach, program management and partnership development to support achievements of the MEP mission and objectives;

• proposed management structure and organizational roles are aligned to plan, direct, monitor, organize and control the monetary resources of the proposed center to achieve its business objectives (Refer to section I.4 of the corresponding FFO);

• proposed organizational structure flows logically from the specified approach to the market and products and service offerings; and

• proposed field staff structure sufficiently supports the geographic concentrations and industry targets for the region.

ii. Oversight Board or Advisory Committee and Governance. Reviewers will assess the extent to which the:

• Proposed Oversight Board or Advisory Committee and its operations are complete, appropriate and will meet the program's objectives at the time of award, or, if such a Board or Committee does not exist at the time of application or is not expected to meet these requirements at the time of award, the extent to which the proposed plan for developing and implementing such an Oversight Board or Advisory Committee within 90 days of award start date (expected to be October 1, 2016) is feasible. (Refer to section I.3 of the corresponding FFO).

• Oversight Board or Advisory Committee and Governance is engaged with overseeing and guiding the Center and supports its own development through a schedule of regular meetings, and processes ensuring Board or Advisory Committee involvement in strategic planning, recruitment, selection and retention of board members, board assessment practices and board development initiatives (Refer to section I.3. of the corresponding FFO).

c. Budget and Financial Plan. (30 points; Sub-criteria i and ii will be weighted equally) Reviewers will assess the suitability and focus of the applicant's five (5) year budget. The application will be assessed in the following areas:

i. Budget. Reviewers will assess the extent to which:

• The proposed financial plan is aligned to support the execution of the proposed Center's strategy and business model over the five (5) year project plan;

• the proposed projections for income and expenditures are appropriate for the scale of services that are to be delivered by the proposed Center and the service delivery model envisioned within the context of the overall financial model over the five (5) year project plan;

• a reasonable ramp-up or scale-up scope and budget has the Center fully operational by the 4th year of the project; and

• the proposal's narrative for each of the budgeted items explains the rationale for each of the budgeted items, including assumptions the applicant used in budgeting for the Center.

ii. Quality of the Financial Plan for Meeting the Award's Non-Federal Cost Share Requirements over 5 Years. Reviewers will assess the quality of and extent to which the:

• Applicant clearly describes the total level of cost share and detailed rationale of the cost share, including cash and in-kind, in their proposed budget.

• applicant's funding commitments for cost share are documented by letters of support from the applicant, proposed sub-recipients and any other partners identified and meet the basic matching requirements of the program;

• applicant's cost share meets basic requirements of allowability, allocability and reasonableness under applicable federal costs principles set for in 2 CFR part 200, subpart E;

• applicant's underlying accounting system is established or will be established to meet applicable federal costs principles set for in 2 CFR part 200, subpart E; and

• the overall proposed financial plan is sufficiently robust and diversified so as to support the long term sustainability of the Center throughout the five (5) years of the project plan.

Selection Factors: The Selection Factors for this notice as set forth here and in section V.3 of the corresponding FFO are as follows:

a. The availability of Federal funds;

b. Relevance of the proposed project to MEP program goals and policy objectives;

c. Reviewers' evaluations, including technical comments;

d. The need to assure appropriate distribution of MEP services within the designated State;

e. Whether the project duplicates other projects funded by DoC or by other Federal agencies; and

f. Whether the application complements or supports other Administration priorities, or projects supported by DoC or other Federal agencies, such as but not limited to the National Network for Manufacturing Innovation and the Investing in Manufacturing Communities Partnership.

Review and Selection Process: Proposals, reports, documents and other information related to applications submitted to NIST and/or relating to financial assistance awards issued by NIST will be reviewed and considered by Federal employees, Federal agents and contractors, and/or by non-Federal personnel who enter into nondisclosure agreements covering such information as set forth here and in section V.2 of the corresponding FFO, which will be used for this competition in lieu of and to the extent they are inconsistent with will supersede the review and selection process provided in the MEP regulations found at 15 CFR part 290, specifically 15 CFR 290.7.

(1) Initial Administrative Review of Applications. An initial review of timely received applications will be conducted to determine eligibility, completeness, and responsiveness to this notice and the corresponding FFO and the scope of the stated program objectives. Applications determined to be ineligible, incomplete, and/or non-responsive may be eliminated from further review. However, NIST, in its sole discretion, may continue the review process for an application that is missing non-substantive information that can easily be rectified or cured.

(2) Full Review of Eligible, Complete, and Responsive Applications. Applications that are determined to be eligible, complete, and responsive will proceed for full reviews in accordance with the review and selection processes below. Eligible, complete and responsive applications will be grouped by the State in which the proposed MEP Center is to be established. The applications in each group will be reviewed by the same reviewers and will be evaluated, reviewed, and selected as described below in separate groups.

(3) Evaluation and Review. Each application will be reviewed by at least three technically qualified individual reviewers who will evaluate each application based on the evaluation criteria (see section V.1 of the corresponding FFO). Applicants may receive written follow-up questions in order for the reviewers to gain a better understanding of the applicant's proposal. Each reviewer will provide a written technical assessment against the evaluation criteria and based on that assessment will assign each application a numeric score, with a maximum score of 100. If a non-Federal reviewer is used, the reviewers may discuss the applications with each other, but scores will be determined on an individual basis, not as a consensus.

Applicants whose applications receive an average score of 70 or higher out of 100 will be deemed finalists. If deemed necessary, finalists will be invited to participate with reviewers in a conference call and/or a video conference, and/or finalists will be invited to participate in a site visit that will be conducted by the same reviewers at the applicant's location. In any event, if there are two (2) or more finalists within a state, conference calls, video conferences or site visits will be conducted with each finalist. Finalists will be reviewed and evaluated, and reviewers may revise their assigned numeric scores based on the evaluation criteria (see section V.1 of the corresponding FFO) as a result of the conference call, video conference, and/or site visit.

(4) Ranking and Selection. Based upon an average of the technical reviewers' final scores, an adjectival rating will be assigned to each application in accordance with the following scale:

Fundable, Outstanding (91-100 points);

Fundable, Very Good (81-90 points);

Fundable (70-80 points); or

Unfundable (0-69 points).

For decision-making purposes, applications receiving the same adjectival rating will be considered to have an equivalent ranking, although their technical review scores, while comparable, may not necessarily be the same.

The Selecting Official is the NIST Associate Director for Innovation and Industry Services or designee. The Selecting Official makes the final recommendation to the NIST Grants Officer regarding the funding of applications under the corresponding FFO. The Selecting Official shall be provided all applications, all the scores and technical assessments of the reviewers, and all information obtained from the applicants during the evaluation, review and negotiation processes.

The Selecting Official will generally select and recommend the most meritorious application for an award based on the adjectival rankings and/or one or more of the six (6) selection factors described in section V.3 of the corresponding FFO. The Selecting Official retains the discretion to select and recommend an application out of rank order (i.e., from a lower adjectival category) based on one or more of the selection factors, or to select and recommend no applications for funding. The Selecting Official's recommendation to the Grants Officer shall set forth the bases for the selection decision.

As part of the overall review and selection process, NIST reserves the right to request that applicants provide pre-award clarifications and/or to enter into pre-award negotiations with applicants relative to programmatic, financial or other aspects of an application, such as but not limited to the revision or removal of proposed budget costs, or the modification of proposed MEP Center activities, work plans or program goals and objectives. In this regard, NIST may request that applicants provide supplemental information required by the Agency prior to award. NIST also reserves the right to reject an application where information is uncovered that raises a reasonable doubt as to the responsibility of the applicant. The final approval of selected applications and issuance of awards will be by the NIST Grants Officer. The award decisions of the NIST Grants Officer are final.

Anticipated Announcement and Award Date. Review, selection, and award processing is expected to be completed in mid-late 2016. The anticipated start date for awards made under this notice and the corresponding FFO is expected to be October 1, 2016.

Additional Information

a. Application Replacement Pages. Applicants may not submit replacement pages and/or missing documents once an application has been submitted. Any revisions must be made by submission of a new application that must be received by NIST by the submission deadline.

b. Notification to Unsuccessful Applicants. Unsuccessful applicants will be notified in writing.

c. Retention of Unsuccessful Applications. An electronic copy of each non-selected application will be retained for three (3) years for record keeping purposes. After three (3) years, it will be destroyed.

Administrative and National Policy Requirements

Uniform Administrative Requirements, Cost Principles and Audit Requirements: Through 2 CFR 1327.101, the Department of Commerce adopted the Uniform Administrative Requirements, Cost Principles, and Audit Requirements for Federal Awards at 2 CFR part 200, which apply to awards made pursuant to this notice and the corresponding FFO. Refer to http://go.usa.gov/SBYh and http://go.usa.gov/SBg4.

The Department of Commerce Pre-Award Notification Requirements: The Department of Commerce will apply the Pre-Award Notification Requirements for Grants and Cooperative Agreements dated December 30, 2014 (79 FR 78390). If the Department of Commerce publishes revised Pre-Award Notification Requirements prior to issuance of awards under this notice and the corresponding FFO, the revised Pre-Award Notification Requirements will apply. Refer to section VII of the corresponding FFO, Federal Awarding Agency Contacts, Grant Rules and Regulations for more information.

Unique Entity Identifier and System for Award Management (SAM): Pursuant to 2 CFR part 25, applicants and recipients (as the case may be) are required to: (i) Be registered in SAM before submitting its application; (ii) provide a valid unique entity identifier in its application; and (iii) continue to maintain an active SAM registration with current information at all times during which it has an active Federal award or an application or plan under consideration by a Federal awarding agency, unless otherwise excepted from these requirements pursuant to 2 CFR 25.110. NIST will not make a Federal award to an applicant until the applicant has complied with all applicable unique entity identifier and SAM requirements. If an applicant has not fully complied with the requirements by the time that NIST is ready to make a Federal award pursuant to this notice and the corresponding FFO, NIST may determine that the applicant is not qualified to receive a Federal award and use that determination as a basis for making a Federal award to another applicant.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

Certifications Regarding Federal Felony and Federal Criminal Tax Convictions, Unpaid Federal Tax Assessments and Delinquent Federal Tax Returns. In accordance with Federal appropriations law, an authorized representative of the selected applicant(s) may be required to provide certain pre-award certifications regarding federal felony and federal criminal tax convictions, unpaid federal tax assessments, and delinquent federal tax returns.

Funding Availability and Limitation of Liability: Funding for the program listed in this notice and the corresponding FFO is contingent upon the availability of appropriations. In no event will NIST or DoC be responsible for application preparation costs if this program fails to receive funding or is cancelled because of agency priorities. Publication of this notice and the corresponding FFO does not oblige NIST or DoC to award any specific project or to obligate any available funds.

Other Administrative and National Policy Requirements: Additional administrative and national policy requirements are set forth in section VI.2 of the corresponding FFO.

Executive Order 12866: This funding notice was determined to be not significant for purposes of Executive Order 12866.

Executive Order 13132 (Federalism): It has been determined that this notice does not contain policies with federalism implications as that term is defined in Executive Order 13132.

Executive Order 12372: Proposals under this program are not subject to Executive Order 12372, “Intergovernmental Review of Federal Programs.”

Administrative Procedure Act/Regulatory Flexibility Act: Notice and comment are not required under the Administrative Procedure Act (5 U.S.C. 553) or any other law, for matters relating to public property, loans, grants, benefits or contracts (5 U.S.C. 553(a)). Moreover, because notice and comment are not required under 5 U.S.C. 553, or any other law, for matters relating to public property, loans, grants, benefits or contracts (5 U.S.C. 553(a)), a Regulatory Flexibility Analysis is not required and has not been prepared for this notice, 5 U.S.C. 601 et seq.

Richard R. Cavanagh,
Director, Special Programs Office.

[FR Doc. 2016-01405 Filed 1-25-16; 8:45 am]

BILLING CODE 3510-13-P